DEPARTMENT OF AGRICULTURE

Forest Service

National Urban and Community Forestry Advisory Council

AGENCY: Forest Service, USDA.

ACTION: Notice of meeting.

SUMMARY: The National Urban and Community Forestry Advisory Council (Council) will meet via teleconference. The Council is authorized under Section 9 of the Cooperative Forestry Assistance Act (the Act), as amended, and the Federal Advisory Committee Act (FACA). Additional information concerning the Council, can be found by visiting the Council's website at: http://www.fs.fed.us/ucf/nucfac.shtml.

DATES: The teleconference will be held on Tuesday March 20, 2018, from 10:30 a.m. to 4:30 p.m., Eastern Standard Time (EST) or until Council business is completed. All meetings are subject to cancellation. For an updated status of the teleconference prior to attendance, please contact the person listed under For Further Information Contact.

ADDRESSES: The meeting will be held via teleconference. For anyone who would like to attend the teleconference, please visit the website listed in the “Summary” section or contact Nancy Stremple at nstremple@fs.fed.us for further details. Written comments may be submitted as described under Supplementary Information. All comments, including names and addresses when provided, are placed in the record and are available for public inspection and copying. The public may inspect comments received at the USDA Forest Service, Sidney Yates Building., Room 3SC-01C, 201 14th Street SW, Washington DC 20024. Please call ahead at 202-309-7829 to facilitate entry into the building.

FOR FURTHER INFORMATION CONTACT: Nancy Stremple, Executive Staff, National Urban and Community Forestry Advisory Council, by cell phone at 202-309-9873, or by email at nstremple@fs.fed.us, or via facsimile at 202-690-5792. Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Report out from Committee work groups;

2. Provide updates on the 2018 grant proposal review and 2019 Call for Proposals;

3. Provide Forest Service updates on budget, projects, partnerships and nominations;

4. Listen to constituents with urban forestry concerns;

5. Perform administrative tasks;

6. Annual accomplishments/recommendations report to the Secretary—Status;

7. Next Meeting, Action items for the week of July 16, 2018.

The teleconference is open to the public. However, the public is strongly encouraged to RSVP prior to the teleconference to ensure all related documents are shared with public meeting participants. The agenda will include time for people to make oral statements of three minutes or less. Individuals wishing to make an oral statement should submit a request in writing by March 13, 2018, to be scheduled on the agenda. Council discussion is limited to Forest Service staff and Council members, however anyone who would like to bring urban and community forestry matters to the attention of the Council may file written statements with the Council's staff before or after the meeting. Written comments and time requests for oral comments must be sent to Nancy Stemple, Executive Staff, National Urban and Community Forestry Advisory Council, Sidney Yates Building, Room 3SC-01C, 201 14th Street SW, Washington, DC 20024, or by email at nstremple@fs.fed.us.

Meeting Accommodations: If you are a person requiring reasonable accommodation, please make requests in advance for sign language interpreting, assistive listening devices or other reasonable accommodation for access to the facility or proceedings by contacting the person listed in the section titled For Further Information Contact. All reasonable accommodation requests are managed on a case by case basis.

Dated: February 14, 2018.
Patti Hirami,
Associate Deputy Chief, State & Private Forestry.

[FR Doc. 2018-05269 Filed 3-14-18; 8:45 am]

BILLING CODE 3411-15-P